DEPARTMENT OF HOMELAND SECURITY

U.S. Citizenship and Immigration Services

[OMB Control Number 1615-0013]

Agency Information Collection Activities: Application for Travel Document, Form Number I-131; Revision of a Currently Approved Collection

ACTION: 30-Day Notice.

SUMMARY: The Department of Homeland Security (DHS), U.S. Citizenship and Immigration Services (USCIS) submitted the following information collection request to the Office of Management and Budget (OMB) for review and clearance in accordance with the Paperwork Reduction Act of 1995.

USCIS has previously published two notices in the Federal Register in connection with this information collection: a notice on December 28, 2011 published at 76 FR 81517, allowing for a 60-day public comment period; and, a notice on March 16, 2012 published at 77 FR 15787, allowing for a 30-day public comment period. USCIS did not receive any comments in connection with these notices. OMB, however, has recommended changes that are reflected in the instructions to the form.

In addition to these recommendations, USCIS is revising the form's instructions to include clear guidance regarding recipients' of Deferred Action under Childhood Arrivals (DACA) ability to request advance parole documents under certain circumstances as provided under the memorandum issued by the Secretary of the Department of Homeland Security on June 15, 2012, and the implementation guidance that derives from it. USCIS is also reporting an increase in the number of respondents associated with this information collection as DACA recipients that can establish a need to travel outside of the United States based on humanitarian, employment or education reasons will be able to request advance parole documents.

DATES: The purpose of this notice is to amend the 30-day notice USCIS published on March 6, 2012, to allow for an additional 30 days for public comments regarding these additional changes USCIS is proposing. Comments are encouraged and will be accepted until December 31, 2012. This process is conducted in accordance with 5 CFR 1320.10.

ADDRESSES: Written comments and/or suggestions regarding the item(s) contained in this notice, especially regarding the estimated public burden and associated response time, must be directed to the OMB USCIS Desk Officer and to DHS. Comments should be submitted to the OMB USCIS Desk Officer via email at oira_submission@omb.eop.gov. All submissions received must include the agency name, OMB Control Number [1615-0013].

Regardless of the method used for submitting comments or material, all submissions will be posted, without change, to the Federal eRulemaking Portal at www.Regulations.gov, and will include any personal information you provide. Therefore, submitting this information makes it public. You may wish to consider limiting the amount of personal information that you provide in any voluntary submission you make to DHS. For additional information please read the Privacy Act notice that is available via the link in the footer of www.Regulations.gov.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this Information Collection

(1) Type of Information Collection Request: Revision of a Currently Approved Collection.

(2) Title of the Form/Collection: Application for Travel Document.

(3) Agency form number, if any, and the applicable component of the DHS sponsoring the collection: Form I-131; USCIS.

(4) Affected public who will be asked or required to respond, as well as a brief abstract: Primary: Individuals or households. Certain aliens, principally permanent or conditional residents, refugees or asylees, applicants for adjustment of status, aliens in Temporary Protected Status (TPS) and aliens abroad seeking humanitarian parole, in need to apply for a travel document to lawfully enter or reenter the United States. Eligible recipients of deferred action under childhood arrivals (DACA) may now request an advance parole documents based on humanitarian, educational and employment reasons.

(5) An estimate of the total number of respondents and the amount of time estimated for an average respondent to respond: 495,090 respondents submitting form I-131 at 1.9 hours; 71,665 respondents providing biometrics at 1.17 hours; and 293,733 providing passport-style photographs at .50 hours.

(6) An estimate of the total public burden (in hours) associated with the collection: Estimated 1,171,385 burden hours.

If you need a copy of the information collection instrument with supplementary documents, or need additional information, please visit www.Regulations.gov. We may also be contacted at: USCIS, Office of Policy and Strategy, Regulatory Coordination Division, 20 Massachusetts Avenue NW., Washington, DC 20529-2140; Telephone 202-272-8377.

Dated: November 27, 2012.
Laura Dawkins,
Chief, Regulatory Coordination Division, Office of Policy and Strategy, U.S. Citizenship and Immigration Services, Department of Homeland Security.

[FR Doc. 2012-29024 Filed 11-29-12; 8:45 am]

BILLING CODE 9111-97-P